FEDERAL COMMUNICATIONS COMMISSION

47 CFR Part 73

[DA 06-612; MB Docket No. 05-155; RM-11226]

Radio Broadcasting Services; Denver City, TX

AGENCY: Federal Communications Commission.

ACTION: Proposed rule; dismissal.

SUMMARY: At the request of Ramar Communications II, Ltd, licensee of Station KSTQ-FM, Plainview, Texas, the site restriction for Channel *248C2 is modified to accommodate Ramar Communications' pending application to modify Station KSTQ-FM's operation. The site for Channel *248C2 is modified to Petitioner's suggested site 13.6 kilometers (8.5 miles) west of Denver City. The modified coordinates for Channel *248C2 at Denver City are 32-55-57 NL and 102-58-10 WL.

ADDRESSES: Federal Communications Commission, 445 Twelfth Street, SW., Washington, DC 20554.

FOR FURTHER INFORMATION CONTACT: Victoria McCauley, Media Bureau, (202) 418-2180.

SUPPLEMENTARY INFORMATION: This is a synopsis of the Commission's Report and Order, MB Docket No. 05-155, adopted March 15, 2005, and released March 17, 2006. The full text of this Commission decision is available for inspection and copying during normal business hours in the FCC's Reference Information Center at Portals II, CY-A257, 445 Twelfth Street, SW., Washington, DC. This document may also be purchased from the Commission's duplicating contractors, Best Copy and Printing, Inc., 445 12th Street, SW., Room CY-B402, Washington, DC 20554, telephone 1-800-378-3160 or via e-mail http://www.BCPIWEB.com. Federal Register This document is not subject to the Congressional Review Act. (The Commission is therefore not required to submit a copy of this Report and Order to GAO, pursuant to the Congressional Review Act, see 5 U.S.C. 801(a)(1)(A) because the proposed rule (70 FR 19400, Apr. 13, 2005) was dismissed.

Federal Communications Commission.
John A. Karousos,
Assistant Chief, Audio Division, Media Bureau.

[FR Doc. E6-5035 Filed 4-11-06; 8:45 am]

BILLING CODE 6712-01-P